DEPARTMENT OF AGRICULTURE

Foreign Agricultural Service

Notice of Request for Revision of a Currently Approved Information Collection

AGENCY: Foreign Agricultural Service, USDA.

ACTION: Notice and request for comments.

SUMMARY: In accordance with the Paperwork Reduction Act of 1995, this notice announces that the Foreign Agricultural Service (FAS) intends to request a revision of a currently approved information collection for entry of specialty sugars into the United States.

DATES: Comments should be received on or before August 16, 2021 to be assured of consideration.

ADDRESSES: FAS invites interested persons to submit comments on this notice by any of the following methods:

• Federal eRulemaking Portal: This website provides the ability to type short comments directly into the comment field or attach a file for lengthier comments. Go to http://www.regulations.gov. Follow the online instructions for submitting comments.

• Mail, hand delivery, or courier: William Janis, International Economist, Multilateral Affairs Division, Trade Policy and Geographic Affairs, Foreign Agricultural Service, U.S. Department of Agriculture, Room 5550, Stop 1070, 1400 Independence Ave. SW, Washington, DC 20250-1070;

• Email: William.Janis@usda.gov. Include OMB Number 0551-0025 in the subject line of the message.

All comments submitted must include the agency name and OMB Number 0551-0025. Comments received in response to this docket will be made available for public inspection and posted without change, including any personal information, online at http://www.regulations.gov and at the mail address listed above between 8:00 a.m. and 4:30 p.m., Monday through Friday, except holidays.

Persons with disabilities who require an alternative means of communication of information (e.g., Braille, large print, audiotape, etc.) should contact Angela Ubrey (Human Resources, 202-772-4836) or Jeffrey Galloway (Office of Civil Rights, 202-690-1399).

FOR FURTHER INFORMATION CONTACT: William Janis at the address stated above or telephone at (202) 720-2194 or by email at William.Janis@usda.gov.

SUPPLEMENTARY INFORMATION:

Title: Specialty Sugar Certificate Application.

OMB Number: 0551-0025.

Expiration Date of Approval: August 31, 2021.

Type of Request: Revision of a currently approved information collection.

Abstract: The quota system established by Presidential Proclamation 4941 of May 5, 1982, prevented imports of certain sugars used for specialized purposes which originated in countries without quota allocations. Therefore, the regulation at 15 CFR part 2011 (Allocation of Tariff-Rate Quota on Imported Sugars, Syrups and Molasses, subpart B—Specialty Sugar) established terms and conditions under which certificates are issued permitting U.S. importers holding certificates to enter specialty sugars from specialty sugar source countries under the sugar tariff-rate quotas (TRQ). Nothing in this subpart affects the ability to enter specialty sugars at the over-TRQ duty rates. Applicants for certificates for the import of specialty sugars must supply the information required by 15 CFR 2011.205 to be eligible to receive a specialty sugar certificate. The specific information required on an application must be collected from those who wish to participate in the program in order to grant specialty sugar certificates, ensure that imported specialty sugar does not disrupt the current domestic sugar program, and administer the issuance of the certificates effectively.

Estimate of Burden: Public reporting burden for this collection of information is estimated to average 2 hours per response.

Respondents: Importers.

Estimated Number of Respondents: 60.

Estimated Number of Responses per Respondent: 1.

Estimated Total Annual Burden on Respondents: 120 hours.

Request for Comments: The public is invited to submit comments and suggestions on all aspects of this information collection to help us to: (1) Evaluate whether the collection of information is necessary for the proper performance of FAS's functions, including whether the information will have practical utility; (2) Evaluate the accuracy of FAS's estimate of burden including the validity of the methodology and assumptions used; (3) Enhance the quality, utility and clarity of the information to be collected; and (4) Minimize the burden of the collection of information on those who are to respond, including through the use of appropriate automated, electronic, mechanical, or other technological collection techniques or other forms of information technology. Copies of this information collection can be obtained from Ronald Croushorn, the Agency Information Collection Coordinator, at (202) 720-3038 or e-mail at Ron.Croushorn@usda.gov.

All comments received in response to this notice, including names and addresses when provided, will be a matter of public record. Comments will be summarized and included in the submission for Office of Management and Budget approval.

E-Government Act Compliance

FAS is committed to complying with the E-Government Act to promote the use of the internet and other information technologies to provide increased opportunities for citizen access to Government information and services, and for other purposes.

Daniel Whitley,
Acting Administrator, Foreign Agricultural Service.

[FR Doc. 2021-12735 Filed 6-16-21; 8:45 am]

BILLING CODE 3410-10-P